DEPARTMENT OF THE INTERIOR

Bureau of Land Management

[LLNV912000 L18200000.XX0000 LXSS006F0000; MO#4500150877]

Notice of Public Meeting: Sierra Front-Northern Great Basin Resource Advisory Council, Nevada

AGENCY: Bureau of Land Management, Interior.

ACTION: Notice of public meeting.

SUMMARY: In accordance with the Federal Land Policy and Management Act of 1976 and the Federal Advisory Committee Act of 1972, the U.S. Department of the Interior, Bureau of Land Management (BLM) Sierra Front-Northern Great Basin Resource Advisory Council (RAC), will meet as indicated below. The meeting will be open to the public.

DATES: The meeting will be held on Thursday, July 15, 2021, from 8:00 a.m. to 4:30 p.m. PST, and Friday, July 16, 2021, from 8:00 a.m. to 12 noon PST. However, the meeting could end earlier if discussions and presentations conclude before the scheduled finish time. The meeting will include public comment periods each day. Depending on the number of persons wishing to speak and time available, the time for individual comments may be limited.

The meeting will be held in-person and online. If necessary due to public health conditions, the in-person portion of the meetings will be cancelled, and the meeting will take place only online.

ADDRESSES: The July 15-16 meeting will be held at the BLM's Winnemucca District Office, 5100 East Winnemucca Boulevard, Winnemucca, Nevada, for those attending face-to-face. The meeting will also be held via the Zoom Webinar Platform. To register for virtual attendance, visit https://blm.zoomgov.com/s/1606787961?pwd=d1lYUjRETm5Qb0szdURMTWdkYnV0QT09.

Written Comments may be submitted in advance by email to lross@blm.gov with the words “SFNGB RAC Comment” in the subject line or sent to the following address 5665 Morgan Mill Road, Carson City, NV 89703, Attention: Lisa Ross, and be received no later than July 14 for the July meeting.

FOR FURTHER INFORMATION CONTACT: Lisa Ross by telephone at (775) 885-6107, or by email at lross@blm.gov. Persons who use a telecommunications device for the deaf (TDD) may call the Federal Relay Service (FRS) at 1-800-877-8339 to contact Ms. Ross during normal business hours. The FRS is available 24 hours a day, 7 days a week, to leave a message or question. You will receive a reply during normal business hours.

SUPPLEMENTARY INFORMATION: The 15-member RAC provides recommendations to the Secretary of the Interior, through the BLM Nevada State Director, on a variety of planning and management issues associated with public land management in the RAC's area of jurisdiction.

Planned agenda topics include the Southern Nevada Public Land Management Act, Wild Horse & Burro, Recreation, Wildfire Updates/Use of Emergency Stabilization & Rehabilitation Projects/Funds, Grazing, Land Conveyances, Fallon Naval Withdrawal, Energy Projects, and District managers' updates. All RAC meetings are open to the public and will be streamed via the Zoom Webinar Platform. Individuals who plan to attend and need further information about the meetings or need special assistance such as sign language interpretation or other reasonable accommodations may contact Lisa Ross at the phone number or email address listed in the FOR FURTHER INFORMATION CONTACT section.

Public Disclosure of Comments: Before including your address, phone number, email address, or other personal identifying information in your comments, please be aware that your entire comment, including your personal identifying information, may be made publicly available at any time. While you can ask us in your comment to withhold your personal identifying information from public review, we cannot guarantee that we will be able to do so.

(Authority: 43 CFR 1784.4-2)

Kenneth Collum,
District Manager, Carson City District.

[FR Doc. 2021-07575 Filed 4-13-21; 8:45 am]

BILLING CODE 4310-HC-P